DEPARTMENT OF STATE

[Public Notice: 9914]

30-Day Notice of Proposed Information Collection: Medical Clearance Update

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to April 24, 2017.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Joan F. Grew, who may be reached on 703-875-5412 or at GrewJF@state.gov.

SUPPLEMENTARY INFORMATION: • Title of Information Collection: Medical Clearance Update.

• OMB Control Number: 1405-0131.

• Type of Request: Revision of a Currently Approved Collection.

• Originating Office: Bureau of Medical Services (MED).

• Form Number: DS-3057.

• Respondents: Foreign service officers, federal employees, or family members.

• Estimated Number of Respondents: 16,280.

• Estimated Number of Responses: 16,280.

• Average Time per Response: 30 minutes.

• Total Estimated Burden Time: 8,140 hours.

• Frequency: As needed.

• Obligation to Respond: Requested to obtain benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: Form DS-3057 is designed to collect medical information to provide medical providers with current and adequate information to base decisions on whether a federal employee and family members will have sufficient medical resources at a diplomatic mission abroad to maintain the health and fitness of the individual and family members.

Methodology: The information collected will be collected through the use of an electronic forms engine or by hand written submission using a pre-printed form.

Behzad Shahbazian,
Director of Clinical Services, Bureau of Medical Services, Department of State.

[FR Doc. 2017-05898 Filed 3-23-17; 8:45 am]

BILLING CODE 4710-36-P